NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for a two-person team to traverse the Antarctic continent on skis. The application is submitted to NSF pursuant to regulations issued under the Antarctic Conservation Act of 1978.

DATES: Interested parties are invited to submit written data, comments, or views with respect to this permit application by October 24, 2000. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Joyce A. Jatko or Nadene Kennedy at the above address or (703) 292-8030.

SUPPLEMENTARY INFORMATION: NSF's Antarctic Waste Regulation, 45 CFR Part 671, requires all U.S. citizens and entities to obtain a permit for the use or release of a designated pollutant in Antarctica, and for the release of waste in Antarctica. NSF has received a permit application under this Regulation for the operation of a two-woman private expedition to traverse the antarctic continent on skis, using parasails, where possible. The permit applicant is: The Bancroft Arnesen Expedition, c/o Base Camp Promotions, LLC, 119 North Fourth Street, Suite 406, Minneapolis, MN 55104. The proposed duration of the permit is from October 25, 2000 through March 15, 2001.

Activity for Which a Permit Is Requested

The two-female expedition team plans to fly from Cape Town, South Africa to Blue One Runway in the Patriot Hills. From there they will be flown to by twin otter to the Fimbul Ice Shelf, from whence they commence their skiing expedition to the South Pole and across the continent to McMurdo Sound. They plan to ski across the continent hauling a sledge each that contains equipment, food and fuel. The fuel will be used to cook food on a one-burner Primas stove, burning white gas. Any spills will be contained and cleaned up. The team's computers and communication devices are battery powered and recharged by solar collectors carried on the sledge. Any solid waste generated will be removed from Antarctica at the conclusion of the expedition. Conditions of the permit would include requirements to report on the removal of materials and any accidental releases, and management of all waste, including human waste, in accordance with Antarctic waste regulations.

Nadene G. Kennedy,
Permit Officer.

[FR Doc. 00-25379 Filed 10-2-00; 8:45 am]

BILLING CODE 7555-01-P